DEPARTMENT OF LABOR

Mine Safety and Health Administration

[OMB Control No. 1219-0119]

Proposed Extension of Information Collection; Diesel-Powered Equipment in Underground Coal Mines

AGENCY: Mine Safety and Health Administration, Labor.

ACTION: Request for public comments.

SUMMARY: The Department of Labor (DOL), as part of its continuing effort to reduce paperwork and respondent burden, conducts a pre-clearance consultation program to provide the general public and Federal agencies with an opportunity to comment on proposed collections of information, in accordance with the Paperwork Reduction Act of 1995. This program helps to ensure that requested data can be provided in the desired format, reporting burden (time and financial resources) is minimized, collection instruments are clearly understood, and the impact of collection requirements on respondents can be properly assessed. The Mine Safety and Health Administration (MSHA) is soliciting comments on the information collection entitled Diesel-Powered Equipment in Underground Coal Mines.

DATES: All comments must be received on or before October 25, 2024.

ADDRESSES: Comments concerning the information collection requirements of this notice may be sent by any of the methods listed below. Please note that late comments received after the deadline will not be considered.

• Federal E-Rulemaking Portal: https://www.regulations.gov. Follow the on-line instructions for submitting comments for docket number MSHA-2024-0019.

• Mail/Hand Delivery: DOL-MSHA, Office of Standards, Regulations, and Variances, 201 12th Street South, 4th Floor West, Arlington, VA 22202-5452. Before visiting MSHA in person, call 202-693-9455 to make an appointment, in keeping with the Department of Labor's COVID-19 policy. Special health precautions may be required.

• MSHA will post all comments as well as any attachments, except for information submitted and marked as confidential, in the docket at https://www.regulations.gov.

FOR FURTHER INFORMATION CONTACT: S. Aromie Noe, Director, Office of Standards, Regulations, and Variances, MSHA, at MSHA.information.collections@dol.gov (email); (202) 693-9440 (voice); or (202) 693-9441 (facsimile). These are not toll-free numbers.

SUPPLEMENTARY INFORMATION:

I. Background

A. Legal Authority

Section 103(h) of the Federal Mine Safety and Health Act of 1977, as amended (Mine Act), 30 U.S.C. 813(h), authorizes the Mine Safety and Health Administration (MSHA) to collect information necessary to carry out its duty in protecting the safety and health of miners. Further, section 101(a) of the Mine Act, 30 U.S.C. 811(a), authorizes the Secretary of Labor (Secretary) to develop, promulgate, and revise, as may be appropriate, improved mandatory health or safety standards for the protection of life and prevention of injuries in coal, metal and nonmetal mines.

B. Information Collection

In order to fulfill the statutory mandates to promote miners' health and safety, MSHA requires the collection of information entitled Diesel-Powered Equipment in Underground Coal Mines. The information collection is intended to assist MSHA in determining compliance and to provide useful information to mine operators and miners' representatives about the performance of diesel engines and any deterioration or defective condition of these engines needing corrective action.

The engines powering diesel equipment are potential contributors to fires and explosion hazards in the confined environment of an underground coal mine where combustible coal dust and explosive methane gas are present. Also, since diesel exhaust is a lung carcinogen in humans, diesel equipment operating in underground coal mines can pose serious health risks to miners from exposure to diesel exhaust emissions, including diesel particulates, oxides of nitrogen, and carbon monoxide.

For these reasons, MSHA requires mine operators to provide important safety and health protections to underground coal miners who work on and around diesel-powered equipment. Safety requirements for diesel-powered equipment include many of the proven features required in existing standards for electric-powered mobile equipment, such as cabs or canopies, methane monitors, brakes, and lights. Sampling of diesel exhaust emissions is required to protect miners from overexposure to carbon monoxide and nitrogen dioxide contained in diesel exhaust.

This information collection includes records for use and maintenance of diesel equipment; testing and maintenance of fire suppression systems on both the equipment and at fueling stations; exhaust gas sampling; essential testing and maintenance of diesel-powered equipment conducted regularly by qualified persons; corrective actions taken; and the persons performing the maintenance, repairs, examinations, and tests trained and qualified to perform such tasks.

1. Records of Diesel Fuel Purchases

Under 30 CFR 75.1901(a), the mine operator must provide to MSHA, upon request, evidence that the diesel fuel purchased for use in diesel-powered equipment underground meets the requirements of having a sulfur content no greater than 0.05 percent and a flash point of 100 °F (38 °C) or greater.

2. Markings of Underground Diesel Fuel Tanks and Safety Cans

Under 30 CFR 75.1904(b)(4)(i), underground diesel fuel tanks and safety cans must be provided with liquid tight connections for all tank openings that are identified by conspicuous markings that specify the function.

3. Markings of Diesel Fuel Transportation Unit Tanks and Safety Cans

Under 30 CFR 75.1906(d), diesel fuel transportation unit tanks and safety cans must be conspicuously marked as containing diesel fuel.

4. Inspections and Recordkeeping of Fire Suppression Systems for Diesel-Powered Equipment and Fuel Transportation Units

Under 30 CFR 75.1911(i), each fire suppression system for diesel-powered equipment and fuel transportation units must be tested and maintained in accordance with the manufacturer's recommendation and as required by the nationally recognized independent testing laboratory listing or approval and be visually inspected at least once each week by a person trained to make such inspections. Under 30 CFR 75.1911(j), persons performing inspections and tests of fire suppression systems must make a record when a fire suppression system does not meet the installation or maintenance requirements. Under 30 CFR 75.1911(j)(1), the record must include the equipment or facility, the defect found, and the corrective action taken. Under 30 CFR 75.1911(j)(2), records are to be kept in a secure manner that is not susceptible to alteration. Under 30 CFR 75.1911(j)(3), records must be maintained at a surface location at the mine for one year and made available for inspection by MSHA and miners' representatives (30 CFR 75.1911(j)(3)).

5. Inspections and Recordkeeping of Fire Suppression Systems for Permanent Underground Diesel Fuel Storage Facilities

Under 30 CFR 75.1912(h). each fire suppression system for permanent underground diesel fuel storage facilities must be tested and maintained in accordance with the manufacturer's recommendation and as required by the nationally recognized independent testing laboratory listing or approval, and visually inspected at least once each week by a person trained to make such inspections. Under 30 CFR 75.1912(i), persons performing inspections and tests of fire suppression systems must make a record when a fire suppression system does not meet the installation or maintenance requirements. Under 30 CFR 75.1912(i)(1), the record must include the equipment or facility, the defect found, and the corrective action taken. Under 30 CFR 75.1912(i)(2) and (i)(3), records are to be kept in a secure manner and maintained at a surface location at the mine for one year and made available for inspection by MSHA and miners' representatives.

6. Inspections and Recordkeeping of Diesel-Powered Equipment

Under 30 CFR 75.1914(f), all diesel-powered equipment must be examined and tested weekly by a qualified person. Under 30 CFR 75.1914(f)(2), persons performing weekly examinations and tests of diesel-powered equipment must make a record when the equipment is not in approved or safe condition. The record must include the equipment, the defect found, and the corrective action taken.

7. Development of SOP and Recordkeeping for Testing Undiluted Exhaust Emissions of Diesel-Powered Equipment

Under 30 CFR 75.1914(g), undiluted exhaust emissions of diesel engines in diesel-powered equipment and heavy-duty nonpermissible diesel-powered equipment used in underground coal mines must be tested and evaluated weekly by a trained person. Under 30 CFR 75.1914(g)(1)-(4), the mine operator must develop and implement written standard operating procedures (SOP) for testing and evaluation including methods of achieving repeatable loaded engine operating condition, sampling, analytics, evaluation and interpretation, and concentration of carbon monoxide. The SOP must also specify the maintenance of records necessary to track engine performance as required in 30 CFR 75.1914(g)(5).

Under 30 CFR 75.1914(h)(1) and (h)(2), weekly examinations and tests of diesel-powered equipment and undiluted exhaust emissions of diesel engines must be recorded securely and retained at a surface location at the mine for at least one year and made available for inspection by MSHA and miners' representatives.

8. Training Program of Persons Working on Diesel-Powered Equipment

Under 30 CFR 75.1915(b)(5), a training and qualification program of persons working on diesel-powered equipment must be in writing, including a description of the course content, materials, and teaching methods for initial training and retraining. Under 30 CFR 75.1915(c), the operator is required to maintain a copy of the training and qualification program and a record of the names of all persons qualified under the program. Under 30 CFR 75.1915 (c)(1) and (c)(2), these records must be kept in a secure manner at surface location of the mine and made available for inspection by MSHA and miners' representatives.

II. Desired Focus of Comments

MSHA is soliciting comments concerning the proposed information collection entitled Diesel-Powered Equipment in Underground Coal Mines. MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The information collection request will be available on https://www.regulations.gov. MSHA cautions the commenter against providing any information in the submission that should not be publicly disclosed. Full comments, including personal information provided, will be made available on https://www.regulations.gov and https://www.reginfo.gov.

The public may also examine publicly available documents at DOL-MSHA, Office of Standards, Regulations and Variances, 201 12th Street South, 4th Floor West, Arlington, VA 22202-5452. Sign in at the receptionist's desk on the 4th Floor via the West elevator. Before visiting MSHA in person, call 202-693-9455 to make an appointment, in keeping with the Department of Labor's COVID-19 policy. Special health precautions may be required.

Questions about the information collection requirements may be directed to the person listed in the FOR FURTHER INFORMATION CONTACT section of this notice.

III. Current Actions

This information collection request concerns provisions for Diesel-Powered Equipment in Underground Coal Mines. MSHA has updated the data with respect to the number of respondents, responses, time burden, and burden costs supporting this information collection request from the previous information collection request.

Type of Review: Extension, without change, of a currently approved collection.

Agency: Mine Safety and Health Administration.

OMB Number: 1219-0119.

Affected Public: Business or other for-profit.

Number of Annual Respondents: 161.

Frequency: On occasion.

Number of Annual Responses: 218,811.

Annual Time Burden: 17,673 hours.

Annual Other Burden Costs: $398,170.

Comments submitted in response to this notice will be summarized and included in the request for Office of Management and Budget approval of the proposed information collection request; they will become a matter of public record and be available at https://www.reginfo.gov.

Song-ae Aromie Noe,
Certifying Officer, Mine Safety and Health Administration.

[FR Doc. 2024-19009 Filed 8-23-24; 8:45 am]

BILLING CODE 4510-43-P